DEPARTMENT OF DEFENSE

Office of the Secretary

RIN 0790-AH95

32 CFR Part 240

Financial Assistance to Local Educational Agencies (LEAs)

AGENCY: Department of Defense.

ACTION: Final rule; correction.

SUMMARY: The Department of Defense is correcting a final rule that appeared on February 25, 2008 (72 FR 9949). The document removed 32 CFR Part 240, “Financial Assistance to Local Educational Agencies (LEAs).”

DATES: Effective date February 25, 2008.

FOR FURTHER INFORMATION CONTACT: L.M. Bynum, 703-696-4970.

SUPPLEMENTARY INFORMATION: In FR Doc. E8-3479 appearing on page 9949 in the Federal Register of Monday, February 25, 2008, the following correction is made:

On page 9949, 3rd column, docket number “DoD-2006-OS-0023” is removed.

Dated: February 29, 2008.
L.M. Bynum,
Alternate OSD Federal Register Liaison Officer, DoD.

[FR Doc. E8-4360 Filed 3-5-08; 8:45 am]

BILLING CODE 5001-06-P